NATIONAL SCIENCE FOUNDATION

Notice of Intent to Renew a Current Information Collection

AGENCY: National Science Foundation.

ACTION: Notice and request for comments.

SUMMARY: The National Center for Science and Engineering Statistics (NCSES) within the National Science Foundation (NSF) is announcing plans to request an amendment to the Higher Education Research and Development (HERD) Survey (OMB Number 3145-0100). In accordance with the requirements of the Paperwork Reduction Act of 1995, we are providing opportunity for public comment on this action. After obtaining and considering public comment, NCSES will prepare the submission requesting that OMB amend the clearance of this collection.

DATES: Written comments on this notice must be received by October 26, 2020 to be assured of consideration. Comments received after that date will be considered to the extent practicable.

FOR ADDITIONAL INFORMATION OR COMMENTS: Contact Suzanne H. Plimpton, Reports Clearance Officer, National Science Foundation, 2415 Eisenhower Avenue, W18253, Alexandria, Virginia 22314; telephone (703) 292-7556; or send email to splimpto@nsf.gov. Individuals who use a telecommunications device for the deaf (TDD) may call the Federal Information Relay Service (FIRS) at 1-800-877-8339 between 8:00 a.m. and 8:00 p.m., Eastern time, Monday through Friday.

SUPPLEMENTARY INFORMATION: Title of Collection: Higher Education Research and Development Survey

OMB Approval Number: 3145-0100.

Expiration Date of Current Approval: August 31, 2022.

Type of Request: Intent to Amend a Current Information Collection.

Abstract: Established within NSF by the America COMPETES Reauthorization Act of 2010 § 505, codified in the NSF Act of 1950, as amended, NCSES—one of 13 principal federal statistical agencies—serves as a central Federal clearinghouse for the collection, interpretation, analysis, and dissemination of objective data on science, engineering, technology, and research and development for use by practitioners, researchers, policymakers, and the public.

The Higher Education Research and Development (R&D) Survey (formerly known as the Survey of R&D Expenditures at Universities and Colleges) originated in fiscal year (FY) 1954 and has been conducted annually since FY 1972. The survey represents one facet of the research and development component of NCSES's statistical program, which includes R&D surveys on the business, federal government, higher education, state government, and nonprofit sectors. NCSES proposes amending the survey to collect new information on R&D personnel. Details are below.

Description of New Information: The Higher Education R&D Survey is one of several surveys at NCSES that collect comparable information on R&D from different sectors of the economy (e.g., businesses, nonprofits, government). However, it does not currently collect as much information about the personnel carrying out R&D activities as some of the other NCSES R&D sector surveys, making it less useful for measurements of the R&D workforce in the United States. NCSES intends to address this shortcoming by collecting data on the number (headcounts) of R&D personnel by function, and the number of full-time equivalents (FTEs) by R&D function. These specific data are not available through other NCSES or federal surveys.

NCSES intends to revise the current question on R&D personnel headcounts and add a question on the number of full-time equivalents for those personnel to the HERD questionnaire. The revised question will collect headcounts on three categories of R&D personnel (researchers, R&D technicians, R&D support staff) by sex and citizenship. Headcounts of researchers will also be collected by highest level of education completed. The previous version of the question collected headcounts for two categories: principal investigators and all other personnel, without demographics. NCSES decided to make the revised personnel headcount question confidential and only publish these data in the aggregate because some institutions expressed reluctance to publish detailed demographics on employees and students. The subsequent new question will collect the full-time equivalents of the R&D personnel accounted for in the revised R&D personnel headcount question.

Use of the New Information: The United States is the only Organisation for Economic Co-operation and Development (OECD) member country that does not report higher education sector FTEs as published in the OECD's Main Science and Technology Indicators report. These new R&D personnel variables will allow NCSES to provide internationally comparable information not available elsewhere to data users interested in science policy, the nature of the science and engineering workforce, and U.S. R&D competitiveness.

Expected respondents: The R&D personnel questions will only appear on the HERD standard form that is administered to approximately 650 institutions reporting at least $1 million in R&D in the previous year. Neither the HERD short form respondents (those reporting at least $150 thousand but less than $1 million), nor the Federally Funded Research and Development Centers (FFRDCs), will receive these questions.

Estimate of burden: Since many institutions will need to create new internal reports to assemble these data and calculate the full-time equivalents, the average burden is estimated to increase by 10 hours (to a total of 64 hours per institution) for the approximately 650 institutions reporting at least $1 million in R&D expenditures. This estimate is based on 32 interviews with 16 respondents conducted over two rounds between April and July 2020.

Comments: Comments are invited on (a) whether the proposed addition to the collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: September 25, 2020.
Suzanne H. Plimpton,
Reports Clearance Officer, National Science Foundation.

[FR Doc. 2020-21808 Filed 10-1-20; 8:45 am]

BILLING CODE 7555-01-P